DEPARTMENT OF LABOR

Office of the Secretary

Submission for OMB Emergency Review; Comment Request

April 10, 2002.

The Department of Labor has submitted the following information collection request (ICR), utilizing emergency review procedures, to the Office of Management and Budget (OMB) for review and clearance in accordance with the Paperwork Reduction Act of 1995 (Pub. L. 104-13, 44 U.S.C. Chapter 35). OMB approval has been requested by April 26, 2002. A copy of this ICR, with applicable supporting documentation, may be obtained by calling the Department of Labor. To obtain a copy of this ICR, contact Darrin King on 202-693-4129 or e-mail: king-darrin@dol.gov.

Comments and questions about the ICR listed below should be submitted to the Office of Information and Regulatory Affairs, Attn: OMB Desk Officer for the Department of Labor, Office of Management and Budget, Room 10235, Washington, DC 20503 (202-395-7316), and received by April 26, 2002.

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Office of the Secretary (OS).

Title: Information Collection Plan for GovBenefits.

OMB Number: 1290-0NEW.

Affected Public: Individual or households; Business or other for-profit; Not-for-profit institutions; Farms; State, Local, or Tribal Governments.

Frequency: On occasion.

Number of Respondents: 500,000.

Estimated Number of Annual Responses: 500,000.

Average Response Time: 2.5 minutes.

Estimated Annual Burden Hours: 20,000.

Total Burden Cost (capital/startup): $0.

Total Burden Cost (operating/maintaining): $0.

Description: The President's Management Agenda for E-Government (February 27, 2002) sets forth a strategy for simplifying the delivery of services to citizens. The President's agenda outlines a Federal E-Government Enterprise Architecture that will transition the management and delivery of government services from a bureaucracy-centered to a citizen-centered paradigm. To this end, the Department of Labor serves as the managing partner of the Administration's “GovBenefits” (formerly “Eligibility Assistance Online”) strategy for assisting citizens in identifying and locating information on benefits sponsored by the Federal government. This tool will greatly reduce the burden on citizens attempting to locate services available from many different government agencies by providing one-stop access to information on obtaining those services.

From time-to time, the precise questions or content may require modification to accommodate addition to the GovBenefits portal as well as new or revised services. Furthermore, while the initial launch version scheduled for April 2002 does not “collect” information, to better service citizens through website design, subsequent versions may need to collect user demographics such as “average age.”

Respondents answer a series of questions to the extent necessary for locating relevant information on Federal benefits. Responses are used by the respondent to expedite the identification and retrieval of sought after information and resources pertaining to the benefits sponsored by the Federal government.

Ira L. Mills,
Departmental Clearance Officer.

[FR Doc. 02-10139 Filed 4-24-02; 8:45 am]

BILLING CODE 4510-23-M